DEPARTMENT OF HEALTH AND HUMAN SERVICES

Centers for Medicare & Medicaid Services

[CMS-3406-N]

Medicare Program; Town Hall Meeting on Merit-Based Incentive Payment System (MIPS) Value Pathway (MVP) Implementation

AGENCY: Centers for Medicare & Medicaid Services (CMS), HHS.

ACTION: Notice of meeting.

SUMMARY: This notice announces a virtual Town Hall meeting for CMS to share updates on the Merit-based Incentive Payment System (MIPS) Value Pathway (MVP) policy considerations and for stakeholders to provide feedback on those MVP considerations for future implementation. Clinicians, professional organizations, third party vendors, stakeholders, and other interested parties are invited to this meeting to present their individual views on MVP design and implementation. The opinions and alternatives provided during this meeting will assist us as we evaluate our policies on essential components of the MVP framework, including, but not limited to, expanding reporting options to allow clinicians to form subgroups and report MVPs, MVP scoring policies, as well as other areas of MVP refinement. The meeting is open to the public, but registration is required, and attendance is limited. We encourage early registration to secure a spot.

DATES:

Meeting Date: The Town Hall meeting announced in this notice will be held on Thursday, January 7, 2021, from 9 a.m. to 4 p.m., eastern standard time (e.s.t.).

Deadline for Posting MVP Topics: In December 2020, we will post information concerning the MVP topics to be discussed for the Town Hall on our website at https://qpp.cms.gov/about/resource-library.

Deadline to Indicate Desire to Provide Verbal Feedback During Town Hall Meeting: Registered participants may have the opportunity to provide verbal comments on the Town Hall agenda topics for a maximum of 5 minutes or less per agenda session. Registered participants who would like to provide verbal feedback during the Town Hall are required to send an email to CMSMVPFeedback@ketchum.com no later than 11:59 p.m., e.s.t., Thursday, December 31, 2020, for the opportunity to secure a spot to provide verbal feedback during the meeting. The time available for registrants to provide verbal comments will depend on the number of registrants who are interested in offering verbal comments and we cannot guarantee that everyone who wishes to provide verbal feedback will have the opportunity to do so. We encourage interested parties to register early and send an email to the address noted above to indicate their interest in providing verbal comments for the agenda session(s) of their choice.

In addition, we encourage interested parties to submit written comments on the agenda topics to be discussed in this Town Hall meeting and on future implementation of MVPs as described in the “Deadline for Submission of Written Comments on the MVP Topics and Future Implementation” section below by 11:59 p.m., e.s.t., Thursday, January 14, 2021.

Deadline for Submission of Written Comments on the MVP Topics and Future Implementation: All interested parties may submit written comments via email to CMSMVPFeedback@ketchum.com by 11:59 p.m., e.s.t., Thursday, January 14, 2021. Any interested party may send written comments about the policies CMS is considering for future rulemaking described below in this notice, in the MVP Town Hall materials posted at https://qpp.cms.gov/about/resource-library, and in the Town Hall meeting.

In addition, we encourage registered participants to consider providing verbal comments during the Town Hall meeting as described in the “Deadline to Indicate Desire to Provide Verbal Feedback During Town Hall Meeting” section above by 11:59 p.m., e.s.t., Thursday, December 31, 2020.

ADDRESSES: Registration website: The Town Hall meeting will be hosted virtually via webinar. Registration is limited to 1,000 participants. Participants must register at https://attendee.gotowebinar.com/register/2414831410075391244. An open toll-free phone line will also be made available for participants to call into the Town Hall meeting. Information on the option to participate via webinar will be provided through an upcoming listserv notice and posted on the Quality Payment Program (QPP) website at https://qpp.cms.gov/about/resource-library. You can sign up to receive QPP listservs at https://public.govdelivery.com/accounts/USCMS/subscriber/qualify?commit=&topic_id=USCMS_12196. Continue to check the website for updates. You may send general inquiries about this meeting via email to CMSMVPFeedback@ketchum.com.

SUPPLEMENTARY INFORMATION:

I. Background on MVP Implementation

In the CY 2020 Physician Fee Schedule (PFS) proposed rule (84 FR 40732 through 40745), we requested comments in a request for information (RFI) on issues related to the implementation of MVPs. As discussed in the CY 2020 PFS proposed rule (84 FR 40732), we had intended to apply the MVP framework in the 2021 MIPS performance period. However, due to the public health emergency (PHE) for COVID-19 and to allow clinicians to focus on responding to the PHE, we announced that the initial implementation of MVPs would be delayed until at least the 2022 MIPS performance year and also limited our 2021 MIPS performance period MVP proposals to those necessary for the collaborative development of MVPs. After review and consideration of RFI comments, we proposed updates to the MVP guiding principles and the MVP development criteria and process in the CY 2021 PFS proposed rule (85 FR 50279 through 50284).

We are holding this Town Hall meeting to engage interested parties on policies that CMS is considering for the future design and implementation of MVPs that were not addressed in the CY 2021 PFS proposed rule. The feedback provided during this meeting will assist us in evaluating and developing MVP policies to be included in future rulemaking.

II. Town Hall Meeting Format and Conference Call/Webinar

A. Format of the Town Hall Meeting

This Town Hall meeting will function as a discussion forum for interested parties to provide feedback on the future of MVP implementation. Therefore, we will post information concerning the MVP topics to be discussed, as specified in the DATES section of this notice at the website specified in the ADDRESSES section of this notice. Registrants are expected to check the website for updates and review the materials prior to the meeting. Registrants will receive an email notification once the materials are live on the website.

The meeting will consist of morning and afternoon sessions, with distinct topics covered in each session. Proposed topics for discussion in each session are subject to change as priorities dictate. The following topics will be covered:

• An overview of the objectives of the meeting followed by a presentation of the topics to be discussed, including an overview of how groups can form subgroups and report MVPs as subgroups

• An overview of MVP design including, but not limited to MVP scoring policies, and measures and activities within MVPs.

• An opportunity for registered participants to provide feedback. Therefore, a portion of the meeting will be reserved for participants to ask questions and provide verbal comments on the Town Hall Agenda topics. Participants will be able to submit questions verbally and through an online chat box. Time for participants to provide feedback and ask questions will be limited based on the number of participants who want to provide verbal feedback and ask questions.

B. Conference Call and Webinar Information

Registered participants interested in attending the Town Hall meeting will be able to view and participate in the Town Hall meeting via webinar. An open toll-free phone line will be made available. Information on the webinar will be provided through an upcoming listserv notice and posted on the Quality Payment Program website at https://qpp.cms.gov/about/resource-library. Continue to check the website for updates.

III. Registration Instructions

Ketchum, a CMS contractor, is coordinating meeting registration. While there is no registration fee, individuals planning to attend the Town Hall meeting must register to attend. Use the link in the ADDRESSES section of this notice to register. You will receive a registration confirmation.

A recording and transcript of the Town Hall meeting will be posted on https://qpp.cms.gov/about/resource-library following the event.

The Administrator of the Centers for Medicare & Medicaid Services (CMS), Seema Verma, having reviewed and approved this document, authorizes Lynette Wilson, who is the Federal Register Liaison, to electronically sign this document for purposes of publication in the Federal Register.

Dated: October 29, 2020.
Lynette Wilson,
Federal Register Liaison, Department of Health and Human Services.

[FR Doc. 2020-25694 Filed 11-20-20; 8:45 am]

BILLING CODE 4120-01-P